COMMISSION OF FINE ARTS

Notice of Schedule of Meetings

Listed below are the schedule of meetings of the Old Georgetown Board for 2004. The Commission's office is located at the National Building Museum, Suite 312, Judiciary Square, 401 F Street, NW., Washington, DC 20001-2728. The Old Georgetown Board meetings are held on the 1st Thursday of each month, excluding August. Items of discussion affecting the appearance of Georgetown in Washington, DC, may include buildings, parks and memorials.

Draft agendas and additional information regarding the Commission are available on our web site: www.cfa.gov. Inquiries regarding the agenda and requests to submit written or oral statements should be addressed in Charles H. Atherton, Secretary, Commission of Fine Arts, at the above address or call 202-504-2200. Individuals requiring sign language interpretation for the hearing impaired should contact the Secretary at least 10 days before the meeting date.

Dated in Washington, DC, September 29, 2003.
Charles H. Atherton,
Secretary.

Georgetown meetings | Submission deadlines
January 5* | December 11, 2003.
February 5 | January 15.
March 4 | February 12.
April 1 | March 11.
May 6 | April 15.
June 3 | May 13.
July 1 | June 10.
September 2 | August 12.
October 7 | September 16.
November 4 | October 14.
December 2 | November 11.
*The 5 January Old Georgetown Board meeting has been changed from the regular Thursday date because of proximity to the holiday.

[FR Doc. 03-25625 Filed 10-8-03; 8:45 am]

BILLING CODE 6330-01-M